DEPARTMENT OF ENERGY

Federal Energy Regulatory Commission

Combined Notice of Filings #1

Take notice that the Commission received the following exempt wholesale generator filings:

Docket Numbers: EG20-18-000.

Applicants: Impact Solar 1, LLC.

Description: Impact Solar 1, LLC Notice of Self-Certification of Exempt Wholesale Generator Status.

Filed Date: 10/29/19.

Accession Number: 20191029-5035.

Comments Due: 5 p.m. ET 11/19/19.

Take notice that the Commission received the following electric rate filings:

Docket Numbers: ER04-835-010.

Applicants: California Independent System Operator Corporation.

Description: Informational Compliance Filing of the California Independent System Operator Corporation.

Filed Date: 10/28/19.

Accession Number: 20191028-5201.

Comments Due: 5 p.m. ET 11/18/19.

Docket Numbers: ER15-356-012; ER19-2231-002; ER15-357-012; ER19-2232-002; ER10-1595-013; ER10-1598-013; ER10-1616-013; ER10-1618-013; ER18-1821-005.

Applicants: Chief Conemaugh Power, LLC, Chief Conemaugh Power II, LLC, Chief Keystone Power, LLC, Chief Keystone Power II, LLC, Crete Energy Venture, LLC, Lincoln Generating Facility, LLC, New Covert Generating Company, LLC, Rolling Hills Generating, L.L.C., Walleye Power, LLC.

Description: Notice of Non-Material Change in Status of Chief Conemaugh Power, LLC, et al.

Filed Date: 10/28/19.

Accession Number: 20191028-5214.

Comments Due: 5 p.m. ET 11/18/19.

Docket Numbers: ER16-2363-004; ER10-2192-034; ER10-2178-034; ER13-1536-018; ER11-2010-026; ER12-1829-017; ER12-1223-022.

Applicants: Bluestem Wind Energy, LLC, Constellation Energy Commodities Group Maine, LLC, Constellation NewEnergy, Inc., Exelon Generation Company, LLC, Exelon Wind 4, LLC, Shooting Star Wind Project, LLC, Wildcat Wind, LLC.

Description: Supplement to December 28, 2019 Updated Market Power Analysis for the Southwest Power Pool Region of the Exelon SPP Entities, et al.

Filed Date: 10/23/19.

Accession Number: 20191023-5092.

Comments Due: 5 p.m. ET 11/13/19.

Docket Numbers: ER18-2397-004.

Applicants: Midcontinent Independent System Operator, Inc.

Description: Compliance filing: 2019-10-28_Order 844 Compliance supplement filing to be effective 1/1/2019.

Filed Date: 10/28/19.

Accession Number: 20191028-5160.

Comments Due: 5 p.m. ET 11/18/19.

Docket Numbers: ER19-1641-002.

Applicants: California Independent System Operator Corporation.

Description: Compliance filing: 2019-10-28 RMR CPM Enhancements Compliance to be effective 9/27/2019.

Filed Date: 10/28/19.

Accession Number: 20191028-5180.

Comments Due: 5 p.m. ET 11/18/19.

Docket Numbers: ER19-2756-001.

Applicants: Midcontinent Independent System Operator, Inc.

Description: Tariff Amendment: 2019-10-29_SA 3083 Lake Benton-NSP Substitute 1st Rev GIA (J790) to be effective 8/22/2019.

Filed Date: 10/29/19.

Accession Number: 20191029-5089.

Comments Due: 5 p.m. ET 11/19/19.

Docket Numbers: ER20-210-000.

Applicants: Citizens Sycamore-Penasquitos Transmission LLC.

Description: § 205(d) Rate Filing: Annual Operating Cost True-Up Adjustment Filing to be effective 1/1/2020.

Filed Date: 10/28/19.

Accession Number: 20191028-5179.

Comments Due: 5 p.m. ET 11/18/19.

Docket Numbers: ER20-211-000.

Applicants: Basin Electric Power Cooperative, Inc.

Description: Request for Extensions and Waivers of Certain NAESB Standards of Basin Electric Power Cooperative.

Filed Date: 10/28/19.

Accession Number: 20191028-5213.

Comments Due: 5 p.m. ET 11/18/19.

Docket Numbers: ER20-212-000.

Applicants: Duke Energy Carolinas, LLC.

Description: Tariff Cancellation: DEC-Prosperity (RS No. 336) Cancellation to be effective 1/1/2020.

Filed Date: 10/29/19.

Accession Number: 20191029-5065.

Comments Due: 5 p.m. ET 11/19/19.

Docket Numbers: ER20-213-000.

Applicants: Duke Energy Carolinas, LLC.

Description: § 205(d) Rate Filing: DEC-Central (RS No. 336) Amendment to be effective 1/1/2020.

Filed Date: 10/29/19.

Accession Number: 20191029-5068.

Comments Due: 5 p.m. ET 11/19/19.

Docket Numbers: ER20-214-000.

Applicants: New England Power Company.

Description: § 205(d) Rate Filing: Related Facilities Agreement with Deerfield Wind, LLC to be effective 10/1/2019.

Filed Date: 10/29/19.

Accession Number: 20191029-5092.

Comments Due: 5 p.m. ET 11/19/19.

Docket Numbers: ER20-215-000.

Applicants: Midcontinent Independent System Operator, Inc.

Description: § 205(d) Rate Filing: 2019-10-29_SA 3267_Astoria Substation 1st Rev MPFCA (J493 J510) OTP to be effective 10/15/2019.

Filed Date: 10/29/19.

Accession Number: 20191029-5098.

Comments Due: 5 p.m. ET 11/19/19.

Docket Numbers: ER20-216-000.

Applicants: Louisville Gas and Electric Company.

Description: § 205(d) Rate Filing: KyMEA NITSA Service Agreement No. 23 to be effective 9/30/2019.

Filed Date: 10/29/19.

Accession Number: 20191029-5105.

Comments Due: 5 p.m. ET 11/19/19.

Docket Numbers: ER20-217-000.

Applicants: GridLiance West LLC.

Description: § 205(d) Rate Filing: TRBAA 2020 Annual Update to be effective 1/1/2020.

Filed Date: 10/29/19.

Accession Number: 20191029-5124.

Comments Due: 5 p.m. ET 11/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2019.
Nathaniel J. Davis, Sr.,
Deputy Secretary.

[FR Doc. 2019-24170 Filed 11-5-19; 8:45 am]

BILLING CODE 6717-01-P